DEFENSE NUCLEAR FACILITIES SAFETY BOARD

Sunshine Act Meetings

TIME AND DATE: 1:00 p.m.-4:00 p.m., October 28, 2019.

PLACE: Defense Nuclear Facilities Safety Board, 625 Indiana Avenue NW, Room 7019, Washington, DC 20004.

STATUS: Open.

MATTERS TO BE CONSIDERED: In this open meeting, representatives of the Department of Energy and the National Nuclear Security Administration will brief the Board on their basis for rejecting Recommendation 2019-2, Safety of the Savannah River Site Tritium Facilities, and the actions completed, underway, or planned to ensure adequate protection of public health and safety at the Savannah River Site. More information, including an agenda for the meeting, can be found at www.dnfsb.gov.

CONTACT PERSON FOR MORE INFORMATION: Glenn Sklar, General Manager, Defense Nuclear Facilities Safety Board, 625 Indiana Avenue NW, Suite 700, Washington, DC 20004-2901, (800) 788-4016. This is a toll-free number.

Dated: October 17, 2019.
Bruce Hamilton,
Chairman.

[FR Doc. 2019-23106 Filed 10-18-19; 4:15 pm]

BILLING CODE 3670-01-P